DEPARTMENT OF LABOR

Notice of Publication to the Department of Labor's List of Goods Produced by Child Labor or Forced Labor

AGENCY: The Bureau of International Labor Affairs, United States Department of Labor.

ACTION: Notice: Announcement of public availability of updated list of goods produced by child labor or forced labor.

SUMMARY: This notice announces the publication of an updated list of goods—along with countries of origin—that the Bureau of International Labor Affairs (ILAB) has reason to believe are produced by child labor or forced labor in violation of international standards. ILAB is required to develop and make available to the public the List pursuant to the Trafficking Victims Protection Reauthorization Act (TVPRA of 2005), amended.

DATES: Publication on September 28, 2022.

FOR FURTHER INFORMATION CONTACT: Nadia Al-Dayel, Division Chief, Office of Child Labor, Forced Labor, and Human Trafficking, Bureau of International Labor Affairs, U.S. Department of Labor at (202) 693-4896 (this is not a toll free number) or Al-Dayel.Nadia.A@dol.gov. Individuals with hearing or speech impairments may access the telephone number above via TTY by calling the Federal Information Relay Service at 1-877-889-5627.

SUPPLEMENTARY INFORMATION: The Bureau of International Labor Affairs (ILAB) announces the publication of the tenth edition of the List of Goods Produced by Child Labor or Forced Labor (List), pursuant to the Trafficking Victims Protection Reauthorization Act (TVPRA) of 2005, as amended (TVPRA). ILAB published the initial List on September 10, 2009, and has since published nine updated editions. The 2022 edition of the TVPRA List includes 158 goods from 77 countries and 10 goods from supply chain tracing that are produced in 2 countries. Two new goods (dairy products and açai berry) that were not previously included on the List are being added. This tenth edition adds a total of 32 line items and removes one line item from the TVPRA List, cotton from Uzbekistan. In addition, for the first time, the TVPRA List includes 10 new goods that are produced with inputs that are produced with child labor or forced labor in accordance with the TVPRA 2018. These goods are lithium-ion batteries, crude palm oil, crude palm kernel oil, refined palm oil, refined palm kernel oil, oleochemicals, photovoltaic ingots, photovoltaic wafers, solar cells, and solar modules.

Section 105(b) of the Trafficking Victims Protection Reauthorization Act of 2005 (“TVPRA of 2005”), Public Law 109-164 (2006), 22 U.S.C 7112(b), as amended by Section 133 of the Frederick Douglass Trafficking Victims Prevention and Protection Reauthorization Act of 2018, Public Law 115-425, directs the Secretary of Labor, acting through ILAB, to “develop and make available to the public a list of goods from countries that ILAB has reason to believe are produced by forced labor or child labor in violation of international standards, including, to the extent practicable, goods that are produced with inputs that are produced with forced labor or child labor.” (TVPRA List).

The primary purposes of the List are to raise public awareness about the incidence of child labor and forced labor in the production of goods in the countries listed and to promote efforts to eliminate such practices. The 2022 report, including a discussion of the List's methodology, the updated List, and an updated bibliography of sources, are available on the Department of Labor website at: http://www.dol.gov/ilab/reports/child-labor/list-of-goods/.

(Authority: 22 U.S.C. 7112(b)(2)(C))

Signed at Washington, DC, on September 8, 2022.
Thea Lee,
Deputy Undersecretary for International Affairs.

[FR Doc. 2022-21462 Filed 10-3-22; 8:45 am]

BILLING CODE 4510-28-P